DEPARTMENT OF LABOR

Employment and Training Administration

[TA-W-51,648]

National Steel Company, Granite City, IL; Notice of Termination of Investigation

Pursuant to section 221 of the Trade Act of 1974, as amended, an investigation was initiated on April 30, 2003 in response to a worker petition filed by International Chemical Workers Union Council, Local 50, on behalf of workers at U.S. Steel Company, Granite City, Illinois. Evidence developed in the course of the investigation revealed that workers at this location were employed by National Steel Corporation on the date the petition was filed.

The petitioning group of workers is covered by an earlier petition filed on April 24, 2003 (TA-W-51,611) that is the subject of an ongoing investigation for which a determination has not yet been issued. Further investigation in this case would duplicate efforts and serve no purpose; therefore the investigation under this petition has been terminated.

Signed at Washington, DC, this 2nd day of June, 2003.
Richard Church,
Certifying Officer, Division of Trade Adjustment Assistance.

[FR Doc. 03-15483 Filed 6-18-03; 8:45 am]

BILLING CODE 4510-30-P